DEPARTMENT OF ENERGY

Federal Energy Regulatory Commission

Combined Notice of Filings

Take notice that the Commission has received the following Natural Gas Pipeline Rate and Refund Report filings:

Filings in Existing Proceedings

Docket Numbers: RP25-740-002.

Applicants: Baltimore Gas and Electric Company, et al. v. Columbia Gas Transmission, LLC.

Description: Columbia Gas Transmission, LLC submits filing in compliance with the 10/16/2025 Order on Complaint.

Filed Date: 12/4/25.

Accession Number: 20251204-5212.

Comment Date: 5 p.m. ET 12/16/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 12, 2025.
Debbie-Anne A. Reese,
Secretary.

[FR Doc. 2025-23226 Filed 12-17-25; 8:45 am]

BILLING CODE 6717-01-P